DEPARTMENT OF STATE

[Public Notice 4438]

Bureau of Economic and Business Affairs; Participating Countries (Hereinafter Known as “Participants”) Eligible for Trade in Rough Diamonds under the Clean Diamond Trade Act (Pub. L 108-19) and Section 2 of Executive Order 13312 of July 29, 2003

AGENCY: Department of State.

ACTION: Notice.

SUMMARY: In accordance with Sections 3 and 6 of the Clean Diamond Trade Act (Pub. L. 108-19) and Section 2 of Executive Order 13312 of July 29, 2003, the Department of State is identifying all the Participants eligible for trade in rough diamonds under the Act, and their respective Importing and Exporting authorities.

FOR FURTHER INFORMATION CONTACT: Jay L. Bruns, Special Negotiator for Conflict Diamonds, Bureau of Economic and Business Affairs, Department of State, (202) 647-2857.

SUPPLEMENTARY INFORMATION: Section 4 of the Clean Diamond Trade Act (the “Act”) requires the President to prohibit the importation into, and the exportation from, the United States of any rough diamond, from whatever source, that has not been controlled through the Kimberley Process Certification Scheme (KPCS). Under Section 3(2) of the Act, “controlled through the Kimberley Process Certification Scheme” means an importation from the territory of a Participant or exportation to the territory of a Participant of rough diamonds that is either (i) Carried out in accordance with the KPCS, as set forth in regulations promulgated by the President, or (ii) controlled under a system determined by the President to meet substantially the standards, practices, and procedures of the KPCS. The referenced regulations are contained at 31 CFR part 592 (“Rough Diamond Control Regulations”).

Section 6(b) of the Act requires the President to publish in the Federal Register a list of all Participants, and all Importing and Exporting Authorities of Participants. Section 2 of Executive Order 13312 of July 29, 2003 delegates this function to the Secretary of State. Section 3(7) of the Act defines “Participant” as a state, customs territory, or regional economic integration authority identified by the Secretary of State. Section 3(3) of the Act defines “Exporting Authority” as one or more entities designated by a Participant from whose territory a shipment of rough diamonds is being exported as having the authority to validate a Kimberley Process Certificate. Section 3(4) of the Act defines “Importing Authority” as one or more entities designated by a Participant into whose territory a shipment of rough diamonds is imported as having the authority to enforce the laws and regulations of the Participant regarding imports, including the verification of the Kimberley Process Certificate accompanying the shipment. The List of Participants will be updated periodically as additional entities meet the requirements of the Act.

Pursuant to Section 3 of the Clean Diamond Trade Act (the Act), Section 2 of the Executive Order 13312 of July 29, 2003, and Delegation of Authority No. 245 (April 23, 2001), I hereby identify the following entities as Participants under section 6(b) of the Act. Included in this List are the Importing and Exporting Authorities for Participants, as provided in Section 6(b) of the Act.

List of Participants

Algeria—Ministry of Energy and Mines.

Angola—Ministry of Geology and Mines.

Armenia—Ministry of Trade and Economic Development.

Australia—Export Authority—Department of Industry, Tourism and Resources; Importing Authority—Australian Customs Service.

Belarus—Department of Finance.

Botswana—Ministry of Minerals, Energy and Water Resources.

Brazil—Ministry of Mines and Metallurgy.

Burkina Faso—Importing and Exporting Authority not currently available.

Cameroon—Importing and Exporting Authority not currently available.

Canada—Natural Resources Canada.

Central African Republic—Ministry of Energy and Mining.

China—General Administration of Quality Supervision, Inspection and Quarantine.

Democratic Republic of the Congo—Ministry of Mines and Hydrocarbons.

Republic of the Congo—Ministry of Mines and Geology.

Cyprus—Importing and Exporting Authority not currently available.

Czech Republic—Ministry of Finance.

European Community—DG/External Relations/A.2.

Gabon—Ministry of Mines, Energy, Oil and Hydraulic Resources.

Ghana—Precious Metals Marketing Company, Limited.

Guinea—Ministry of Mines and Geology.

Guyana—Geology and Mines Commission.

Hungary—Ministry of Economy and Transport.

India—The Gem and Jewellery Export Promotion Council.

Israel—The Diamond Controller.

Ivory Coast—Ministry of Mines and Energy.

Japan—Ministry of Economy, Trade and Industry.

Democratic Peoples Republic of Korea—Korea Daesong Trading Corporation.

Republic of Korea—Ministry of Commerce, Industry and Enterprise.

Laos—Ministry of Finance.

Lebanon—Ministry of Economy and Trade.

Lesotho—Commissioner of Mines and Geology.

Malaysia—Ministry of International Trade and Industry.

Mali—Department of Mines, Energy and Water.

Malta—Importing and Exporting Authority not currently available.

Mauritius—Ministry of Commerce.

Mexico—Importing and Exporting Authority not currently available.

Namibia—Ministry of Mines and Energy.

Norway—Ministry of Foreign Affairs.

Philippines—Importing and Exporting Authority not currently available.

Poland—Ministry of Economy, Labour and Social Policy.

Russia—Gokhran, Ministry of Finance.

Sierra Leone—Government Gold and Diamond Office.

Slovenia—Ministry of Finance.

South Africa—South African Diamond Board.

Sri Lanka—National Gem and Jewellery Authority.

Swaziland—Geological Surveys and Mines Department.

Switzerland—State Secretariat for Economic Affairs.

Taiwan—Bureau of Foreign Trade.

Tanzania—Commissioner for Minerals.

Thailand—Ministry of Commerce.

Togo—Ministry of Mines and Geology.

Tunisia—Ministry of Commerce.

Turkey—Importing and Exporting Authority not currently available.

Ukraine—State Gemological Centre of Ukraine.

United Arab Emirates—Dubai Metals and Commodities Center.

United States of America—Importing Authority—The United States Bureau of Customs and Border Protection; Exporting Authority—The Bureau of the Census.

Venezuela—Ministry of Energy and Mines.

Vietnam—Ministry of Trade.

Zimbabwe—Ministry of Mines and Mining Development.

This notice shall be published in the Federal Register.

Richard L. Armitage,
Deputy Secretary of State, Department of State.

[FR Doc. 03-20391 Filed 8-8-03; 8:45 am]

BILLING CODE 4710-07-P